DEPARTMENT OF THE INTERIOR

Minerals Management Service

[Docket No. MMS-2010-OMM-0001]

MMS Information Collection Activity: 1010—NEW, Study of Sharing To Assess Community Resilience, New Collection; Submitted for Office of Management and Budget (OMB) Review; Comment Request

AGENCY: Minerals Management Service (MMS), Interior.

ACTION: Notice of a new information collection (1010—NEW).

SUMMARY: To comply with the Paperwork Reduction Act of 1995 (PRA), we are notifying the public that we have submitted to OMB an information collection request (ICR) for approval of the paperwork requirements in the study being conducted in Alaska, Study of Sharing to Assess Community Resilience. This notice also provides the public a second opportunity to comment on the paperwork burden of these regulatory requirements.

DATES: Submit written comments by July 12, 2010.

ADDRESSES: Submit comments by either fax (202) 395-5806 or e-mail (OIRA_DOCKET@omb.eop.gov) directly to the Office of Information and Regulatory Affairs, OMB, Attention: Desk Officer for the Department of the Interior (1010—NEW). Please also submit a copy of your comments to MMS by any of the means below.

• Electronically: go to http://www.regulations.gov. In the entry titled “Enter Keyword or ID,” enter docket ID MMS-2010-OMM-0001 then click search. Follow the instructions to submit public comments and view supporting and related materials available for this collection. The MMS will post all comments.

• E-mail, mail, or hand-carry comments to cheryl.blundon@mms.gov; Department of the Interior; Minerals Management Service; Attention: Cheryl Blundon; 381 Elden Street, MS-4024; Herndon, Virginia 20170-4817. Please reference ICR 1010-NEW in your comment and include your name and return address.

FOR FURTHER INFORMATION CONTACT: Cheryl Blundon, Regulations and Standards Branch, (703) 787-1607. You may also contact Cheryl Blundon to obtain a copy, at no cost, of the survey that requires the subject collection of information.

SUPPLEMENTARY INFORMATION: Title: Study of Sharing to Assess Community Resilience.

OMB Control Number: 1010—NEW.

Abstract: The United States Congress, through the 1953 Outer Continental Shelf Lands Act (OCSLA) [Pub. L. 95-372, section 20] and its subsequent amendments, requires the Secretary of the U.S. Department of the Interior (USDOI) to monitor and assess the impacts of resource development activities in Federal waters on human, marine, and coastal environments. The OCSLA amendments authorize the Secretary of the Interior to conduct studies in areas or regions of sales to ascertain the “environmental impacts on the marine and coastal environments of the outer Continental shelf and the coastal areas which may be affected by oil and gas development” (43 U.S.C. 1346).

The National Environmental Policy Act (NEPA) of 1969 (42 U.S.C. 4321-4347) requires that all Federal Agencies use a systematic, interdisciplinary approach to ensure the integrated use of the natural and social sciences in any planning and decision making that may have an effect on the human environment. The Council on Environmental Quality's Regulations for Implementing Procedural Provisions of NEPA (40 CFR 1500-1508) state that the “human environment” is to be “interpreted comprehensively” to include “the natural and physical environment and the relationship of people with that environment” (40 CFR 1508.14). An action's “aesthetic, historic, cultural, economic, social or health” effects must be assessed, “whether direct, indirect, or cumulative” (40 CFR 1508.8).

The USDOI/Minerals Management Service (MMS) is the Federal administrative agency created both to conduct OCS lease sales and to monitor and mitigate adverse impacts that might be associated with offshore resource development. Within the MMS, the Environmental Studies Program functions to implement and manage the responsibilities of research. This study will facilitate the meeting of USDOI/MMS information needs on subsistence food harvest and sharing activities in coastal Alaska, with specific focus on the Beaufort Sea Planning Area.

Many previous MMS studies have documented aspects of subsistence harvest throughout coastal Alaska, including information about household subsistence harvests by quantity, location, species, and month of harvest. However, most of these studies are limited to representing the importance of subsistence to livelihoods in measures of pounds per capita harvested or average per capita harvest. The study departs from this standard approach by systematically examining the complex social dynamics of sharing and consuming resources after resources have been harvested. In Alaska Native communities, the distribution and exchange of subsistence resources operate under traditional institutions (informal rules; codes of conduct) for reciprocity in exchanging harvested resources and the cultural obligation to share. Changes in ecosystem services, which may result from industrial development and climate change, could affect subsistence activities with related effects on community sharing networks. This research will make an important contribution to the study of northern subsistence by providing baseline quantitative data on the structure of sharing networks and by identifying the characteristics of system components and key nodes of networks. From the findings of the empirical data, we will model thresholds of change in community food distribution networks to assess communities' vulnerabilities and resilience.

The 36-month study involves assessing the vulnerabilities of two North Slope and one interior Alaska village to the potential effects of offshore oil and gas development on subsistence food harvest and sharing activities. We will investigate the resilience of local sharing networks that structure contemporary subsistence-cash economies, using survey research methods that involve residents of the three Alaskan communities.

Potential number of households is approximately 349 from the three partner communities. We seek to interview the “head” of each household, and in some cases that may be two people. This study will be conducted in a face-to-face setting. The questionnaires will be administered under the guidelines of 45 CFR part 46. The introduction that will be covered with each participant stresses that participation is voluntary and anonymity will be maintained. Procedures designed to protect the confidentiality of the information provided will include the use of coded selection and identification numbers to protect the identities of respondents.

The information to be gathered is intended to inform regulatory agencies, academic researchers, and partner communities about local social systems in a way that can shape development strategies and serve as an interim baseline for impact monitoring to compare against future conditions. Without this data, MMS will not have sufficient information to make informed leasing and development decisions for these areas.

Frequency: Voluntary, one-time event, per study.

Estimated Number and Description of Respondents: Potential number of households is approximately 349 from the three partner communities. We seek to interview the “head” of each household, and in some cases that may be two people.

Estimated Reporting and Recordkeeping Hour Burden: The MMS estimates the total annual burden hours to be 524 rounded hours (349 respondents × 1.5 hours per questionnaire = 523.5 burden hours).

Estimated Reporting and Recordkeeping Non-Hour Cost Burden: We have identified no paperwork non-hour cost burdens associated with the collection of information.

Public Disclosure Statement: The PRA (44 U.S.C. 3501, et seq.) provides that an agency may not conduct or sponsor a collection of information unless it displays a currently valid OMB control number. Until OMB approves a collection of information, you are not obligated to respond.

Comments: Section 3506(c)(2)(A) of the PRA (44 U.S.C. 3501, et seq.) requires each agency “ * * * to provide notice * * * and otherwise consult with members of the public and affected agencies concerning each proposed collection of information * * * ” Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

To comply with the public consultation process, on January 12, 2010, we published a Federal Register notice (75 FR 1648) announcing that we would submit this ICR to OMB for approval. The notice provided the required 60-day comment period. This notice also informed the public that they may comment at any time on the collection of information and provided the address to which they should send comments. We received three comments from the same person, but none of the comments were germane to the paperwork burden of the collection. To view the comments that were submitted to MMS, follow the instructions under “Electronically” in the ADDRESSES section.

If you wish to comment in response to this notice, you may send your comments to the offices listed under the ADDRESSES section of this notice. The OMB has up to 60 days to approve or disapprove the information collection but may respond after 30 days. Therefore, to ensure maximum consideration, OMB should receive public comments by July 12, 2010.

Public Availability of Comments: Before including your address, phone number, e-mail address, or other personal identifying information in your comment, you should be aware that your entire comment—including your personal identifying information—may be made publicly available at any time. While you can ask us in your comment to withhold your personal identifying information from public review, we cannot guarantee that we will be able to do so.

MMS Information Collection Clearance Officer: Arlene Bajusz, (202) 208-7744.

Dated: June 5, 2010.
William S. Hauser,
Acting Chief, Office of Offshore Regulatory Programs.

[FR Doc. 2010-14122 Filed 6-10-10; 8:45 am]

BILLING CODE 4310-MR-P